DEPARTMENT OF TRANSPORTATION

Federal Aviation Administration

14 CFR Part 39

[Docket No. FAA-2019-0258; Product Identifier 2018-NM-134-AD]

RIN 2120-AA64

Airworthiness Directives; Airbus SAS Airplanes

AGENCY: Federal Aviation Administration (FAA), DOT.

ACTION: Notice of proposed rulemaking (NPRM).

SUMMARY: We propose to supersede Airworthiness Directive (AD) 96-25-04, which applies to certain Airbus SAS Model A320 series airplanes. AD 96-25-04 requires repetitive inspections to detect chafing of the wire looms (bundles) in the wing and the horizontal stabilizer and in certain areas of the main landing gear (MLG) bays; repair or replacement, protection, and realignment, if necessary; installation of protective sleeves around the wire bundles; and realignment of bundles that are not guided centrally into the conduit end fittings. Since we issued AD 96-25-04, investigations identified issues with the previously installed protective sleeves. This proposed AD would partially retain the requirements of AD 96-25-04 and would require modification of the wing electrical installation, as specified in an European Aviation Safety Agency (EASA) AD, which will be incorporated by reference. We are proposing this AD to address the unsafe condition on these products.

DATES: We must receive comments on this proposed AD by June 21, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For the incorporation by reference (IBR) material described in the “Related IBR material under 1 CFR part 51” section in SUPPLEMENTARY INFORMATION, contact EASA, Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov.

Examining the AD Docket

You may examine the AD docket on the internet at http://www.regulations.gov by searching for and locating Docket No. FAA-2019-0258; or in person at Docket Operations between 9 a.m. and 5 p.m., Monday through Friday, except Federal holidays. The AD docket contains this NPRM, the regulatory evaluation, any comments received, and other information. The street address for Docket Operations (telephone 800-647-5527) is in the ADDRESSES section. Comments will be available in the AD docket shortly after receipt.

FOR FURTHER INFORMATION CONTACT: Sanjay Ralhan, Aerospace Engineer, International Section, Transport Standards Branch, FAA, 2200 South 216th St., Des Moines, WA 98198; telephone and fax 206-231-3223.

SUPPLEMENTARY INFORMATION:

Comments Invited

We invite you to send any written relevant data, views, or arguments about this proposal. Send your comments to an address listed under the ADDRESSES section. Include “Docket No. FAA-2019-0258; Product Identifier 2018-NM-134-AD” at the beginning of your comments. We specifically invite comments on the overall regulatory, economic, environmental, and energy aspects of this NPRM. We will consider all comments received by the closing date and may amend this NPRM based on those comments.

We will post all comments we receive, without change, to http://www.regulations.gov, including any personal information you provide. We will also post a report summarizing each substantive verbal contact we receive about this NPRM.

Discussion

We issued AD 96-25-04, Amendment 39-9846 (61 FR 66881, December 19, 1996) (“AD 96-25-04”), for certain Airbus SAS Model A320 series airplanes. AD 96-25-04 requires inspections of the wire looms (bundles) in the wing and the horizontal stabilizer and in certain areas of the MLG bays; repair or replacement, protection, and realignment, if necessary; installation of protective sleeves around the wire bundles; and realignment of bundles that are not guided centrally into the conduit end fittings. AD 96-25-04 resulted from a report that electrical short-circuiting could occur in the wire bundles in the MLG bays. We issued AD 96-25-04 to address electrical short-circuiting due to chafing of the wire bundles in the wing, horizontal stabilizer, or MLG bay.

Actions Since AD 96-25-04 Was Issued

Since we issued AD 96-25-04, investigations identified issues with the previously installed protective sleeves. We have determined that a modification of the wing electrical installation, which includes a new protective sleeve, is necessary to address the identified unsafe condition.

The EASA, which is the Technical Agent for the Member States of the European Union, has issued EASA AD 2018-0200, dated September 6, 2018 (“EASA AD 2018-0200”) (also referred to as the Mandatory Continuing Airworthiness Information, or “the MCAI”), to correct an unsafe condition for certain Airbus SAS Model A320-211, -212, and -231 airplanes. The MCAI states:

Several cases of wire chafing were reported by operators, occurring in the trailing edge areas of zones 574 and 674 (both left-hand and right-hand wing) at the breakout of the electrical bundle from the conduit.

This condition, if not detected and corrected, could lead to a short circuit, possibly resulting in a fire in the concerned areas. It was also determined that this failure mode can also affect other wires installed on the wing, horizontal stabilizer and in the main landing gear (MLG) bays.

To address this unsafe condition, Airbus issued SB [service bulletin] A320-24-1044 to provide instructions for inspection of the wires to detect chafing or signs of overheating, and SB A320-24-1045 introducing protective sleeves on electrical cables to prevent chafing.

Consequently, DGAC [Direction Générale de l'Aviation Civile] France issued AD 91-182-020(B) (later revised) [which corresponds to FAA AD 96-25-04] to require those repetitive inspections, or applicable repairs depending on findings, and to install protective sleeves as terminating action for the repetitive inspections.

Since [DGAC France] AD 91-182-020(B) R2 was issued, subsequent investigations identified, in those areas (zones 574 and 674), issues with the protective sleeves previously installed in production, through mod 22109, or in service through SB A320-24-1045.

Prompted by these findings, Airbus issued SB A320-92-1115, later revised, providing instructions for installation of a new protective sleeve on those cables localised in zones 574 and 674, and introduced in production (through mod 22626) new design electrical cables more resistant to chafing.

For the reasons described above, this [EASA] AD partially retains the requirements of DGAC France AD 91-182-020(B) R2, which is superseded, and requires modification of the wing electrical installation [installation of new protective sleeves on the electrical cables, which includes an inspection of the cables and repair or replacement of damaged wires].

Explanation of Retained Requirements

Although this proposed AD does not explicitly restate the requirements of AD 96-25-04, this proposed AD would retain certain requirements of AD 96-25-04. Those requirements are referenced in EASA AD 2018-0200, which, in turn, is referenced in paragraph (g) of this proposed AD.

Explanation of Change To Terminating Action Included in AD 96-25-04

Note 2 of AD 96-25-04 indicated that accomplishment of the actions specified in Airbus Service Bulletin A320-24-1045, Revision 2, dated April 12, 1992, terminates the repetitive inspections specified in paragraphs (c) and (d) of AD 96-25-04 (which correspond to paragraphs (1) and (2) of EASA AD 2018-0200). However, this terminating action is not included in EASA AD 2018-0200, which would be incorporated by reference in the FAA AD.

Related IBR Material Under 1 CFR Part 51

EASA AD 2018-0200 describes procedures for repetitive inspections to detect chafing, signs of overheating, and misalignment of the wire looms (bundles) in the wing and the horizontal stabilizer and in certain areas of the MLG bays; repair or replacement, protection, and realignment, if necessary; realignment of bundles that are not guided centrally into the conduit end fittings; and modification of the wing electrical installation. This material is reasonably available because the interested parties have access to it through their normal course of business or by the means identified in the ADDRESSES section, and it is publicly available through the EASA website.

FAA's Determination and Requirements of This Proposed AD

This product has been approved by the aviation authority of another country, and is approved for operation in the United States. Pursuant to our bilateral agreement with the State of Design Authority, we have been notified of the unsafe condition described in the MCAI referenced above. We are proposing this AD because we evaluated all pertinent information and determined an unsafe condition exists and is likely to exist or develop on other products of the same type design.

Proposed Requirements of This NPRM

This proposed AD would require accomplishing the actions specified in EASA AD 2018-0200 described previously, as incorporated by reference, except for any differences identified as exceptions in the regulatory text of this AD.

Explanation of Required Compliance Information

In the FAA's ongoing efforts to improve the efficiency of the AD process, the FAA worked with Airbus and EASA to develop a process to use certain EASA ADs as the primary source of information for compliance with requirements for corresponding FAA ADs. As a result, EASA AD 2018-0200 will be incorporated by reference in the FAA final rule. This proposed AD would, therefore, require compliance with the provisions specified in EASA AD 2018-0200, except for any differences identified as exceptions in the regulatory text of this proposed AD. Service information specified in EASA AD 2018-0200 that is required for compliance with EASA AD 2018-0200 will be available on the internet http://www.regulations.gov by searching for and locating Docket No. FAA-2019-0258 after the FAA final rule is published.

Costs of Compliance

We estimate that this proposed AD affects 27 airplanes of U.S. registry. We estimate the following costs to comply with this proposed AD:

Estimated Costs for Required Actions
Action | Labor cost | Parts cost | Cost per product | Cost on U.S. operators
Retained actions from AD 96-25-04 | 62 work-hours × $85 per hour = $5,270 | $0 | $5,270 | $142,290
New proposed actions | 25 work-hours × $85 per hour = $2,125 | * $0 | 2,125 | 57, 375
* We have received no definitive data on the parts costs.

We have received no definitive data that would enable us to provide cost estimates for the on-condition actions specified in this proposed AD.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 96-25-04, Amendment 39-9846 (61 FR 66881, December 19, 1996), and adding the following new AD:

Airbus SAS: Docket No. FAA-2019-0258; Product Identifier 2018-NM-134-AD.

(a) Comments Due Date

We must receive comments by June 21, 2019.

(b) Affected ADs

This AD replaces AD 96-25-04, Amendment 39-9846 (61 FR 66881, December 19, 1996) (“AD 96-25-04”).

(c) Applicability

This AD applies to Airbus SAS Model A320-211, -212, and -231 airplanes, certificated in any category, as identified in European Aviation Safety Agency (EASA) AD 2018-0200, dated September 6, 2018 (“EASA AD 2018-0200”).

(d) Subject

Air Transport Association (ATA) of America Code 24, Electrical power.

(e) Reason

This AD was prompted by a report that electrical short-circuiting could occur in the wire bundles in the wing, horizontal stabilizer or main landing gear (MLG) bays. This AD was also prompted by a determination that there were issues with protective sleeves previously installed as specified in AD 96-25-04. We are issuing this AD to address electrical short circuiting due to chafing of the wire bundles in the wing, horizontal stabilizer, or MLG bay, which could result in a fire.

(f) Compliance

Comply with this AD within the compliance times specified, unless already done.

(g) Requirements

Except as specified in paragraph (h) of this AD: Comply with all required actions and compliance times specified in, and in accordance with, EASA AD 2018-0200.

(h) Exceptions to EASA AD 2018-0200

(1) For purposes of determining compliance with the requirements of this AD: Where EASA AD 2018-0200 refers to its effective date, this AD requires using the effective date of this AD.

(2) For purposes of determining compliance with the requirements of this AD: Where EASA AD 2018-0200 refers to “the effective date of DGAC France AD 91-182-020 at original issue” or refers to “the effective date of DGAC France AD 91-182-020 at Rev.2,” this AD requires using January 27, 1997 (the effective date of AD 96-25-04).

(3) The “Remarks” section of EASA AD 2018-0200 does not apply to this AD.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2018-0200 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

(1) For information about EASA AD 2018-0200, contact EASA, Konrad-Adenauer-Ufer 3, 50668 Cologne, Germany; telephone +49 221 89990 6017; email ADs@easa.europa.eu; Internet www.easa.europa.eu. You may find this EASA AD on the EASA website at https://ad.easa.europa.eu. You may view this EASA AD at the FAA, Transport Standards Branch, 2200 South 216th St., Des Moines, WA. For information on the availability of this material at the FAA, call 206-231-3195. EASA AD 2018-0200 may be found in the AD docket on the internet at http://www.regulations.gov by searching for and locating Docket No. FAA-2019-0258.

(2) For more information about this AD, contact Sanjay Ralhan, Aerospace Engineer, International Section, Transport Standards Branch, FAA, 2200 South 216th St., Des Moines, WA 98198; telephone and fax 206-231-3223.

Issued in Des Moines, Washington, on April 25, 2019.
Michael Kaszycki,
Acting Director, System Oversight Division, Aircraft Certification Service.

[FR Doc. 2019-09265 Filed 5-6-19; 8:45 am]

BILLING CODE 4910-13-P